DEPARTMENT OF THE INTERIOR

Bureau of Land Management

[NDM_21192]

Public Land Order No. 7932; Withdrawal for Dash Lake Waterfowl Production Area; North Dakota

AGENCY: Bureau of Land Management, Interior.

ACTION: Public Land Order.

SUMMARY: This Public Land Order (PLO) withdraws 13.50 acres of public land from appropriation under the public land laws, including location and entry under the United States mining laws, but not from leasing under the mineral and geothermal leasing laws, subject to valid existing rights, for 100 years, and reserves the land for 100 years for management by the U.S. Fish and Wildlife Service as part of the Dash Lake Waterfowl Production Area (WPA) in Towner County, North Dakota.

DATES: This PLO takes effect on October 20, 2023.

FOR FURTHER INFORMATION CONTACT: Cyndi Eide, Realty Specialist, Bureau of Land Management, Montana/Dakotas State Office, telephone (406) 896-5094, email: ceide@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: This withdrawal places these lands under the management of the Department of the Interior, U.S. Fish and Wildlife Service, pursuant to the National Wildlife Refuge System Administration Act (NWRSAA) at 16 U.S.C. 668dd, as part of the Dash Lake WPA. These lands were previously withdrawn and reserved as part of the refuge for a 40-year term under PLO No. 6225 (47 FR 11675), which expired on March 17, 2022. Under the NWRSAA at 16 U.S.C. 668dd(a)(6), once land is included as part of the Refuge System via public land withdrawal, it remains part of the System until otherwise specified by an Act of Congress. This Order reflects the prior withdrawal and reservation and withdraws the land from the laws specified to protect the land from uses incompatible with Refuge purposes.

Order

By virtue of the authority vested in the Secretary of the Interior by Section 204 of the Federal Land Policy and Management Act of 1976, 43 U.S.C. 1714, it is ordered as follows:

1. Subject to valid existing rights, the following described public land is hereby withdrawn from all forms of appropriation under the public land laws, including location and entry under the United States mining laws, but not from leasing under the mineral and geothermal leasing laws, and reserved for administration by the U.S. Fish and Wildlife Service for wildlife refuge purposes as part of the Dash Lake WPA.

Fifth Principal Meridian, North Dakota

T. 163 N., R. 65 W.,

Sec. 5, lot 3.

The area described contains 13.50 acres.

2. This withdrawal will expire 100 years from the effective date of this order, unless as a result of a review conducted before the expiration date, pursuant to Section 204(f) of the Federal Land Policy and Management Act of 1976, 43 U.S.C. 1714(f), the Secretary determines that the withdrawal shall be extended.

(Authority: 43 U.S.C. 1714)

Shannon A. Estenoz,
Assistant Secretary for Fish and Wildlife and Parks.

[FR Doc. 2023-23183 Filed 10-19-23; 8:45 am]

BILLING CODE 4333-15-P